DEPARTMENT OF LABOR

Employment and Training Administration

[TA-W-56,854]

Mettler-Toledo, Inc., Spartanburg Product Organization, Inman, SC; Notice of Revised Determination on Reconsideration

By letter dated May 2, 2005 a company official requested administrative reconsideration regarding the Department's Negative Determination Regarding Eligibility to Apply for Worker Adjustment Assistance, applicable to the workers of the subject firm.

The initial investigation resulted in a negative determination signed on April 18, 2005 was based on the finding that the worker group does not produce an article within the meaning of Section 222 of the Trade Act of 1974. The denial notice was published in the Federal Register on May 16, 2005 (70 FR 25860).

The petitioner provided additional information relating to products manufactured at the subject facility.

New information provided by the company illustrates that the workers of the subject firm were engaged in production of engineering models and customer prototypes during the relevant period. Workers are not separately identifiable by production line. The investigation also revealed that sales, production and employment declined during the relevant period. The investigation further revealed that company imports of models and customer prototypes increased from 2003 to 2004 and during the period of January through March of 2005 when compared to the same period in 2004.

The workers of Mettler-Toledo, Inc., Spartanburg Product Organization, Inman, South Carolina were under an existing Trade Adjustment Assistance (TAA) certification (TA-W-51,640) which expired on April 25, 2005.

In accordance with Section 246 the Trade Act of 1974 (26 U.S.C. 2813), as amended, the Department of Labor herein presents the results of its investigation regarding certification of eligibility to apply for alternative trade adjustment assistance (ATAA) for older workers.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The Department has determined that criterion (1) has not been met. The investigation revealed that a not significant number of workers in workers' firm are 50 years of age or older.

Conclusion

After careful review of the initial investigation, I conclude that increased imports of articles like or directly competitive with those produced at Mettler-Toledo, Inc., Spartanburg Product Organization, Inman, South Carolina, contributed importantly to the declines in sales or production and to the total or partial separation of workers at the subject firm. In accordance with the provisions of the Act, I make the following certification:

“All workers of Mettler-Toledo, Inc., Spartanburg Product Organization, Inman, South Carolina, who became totally or partially separated from employment on or after April 26, 2005 through two years from the date of this certification, are eligible to apply for adjustment assistance under Section 223 of the Trade Act of 1974, and are denied alternative trade adjustment assistance under Section 246 of the Trade Act of 1974.”

Signed in Washington, DC, this 8th day of June, 2005.
Elliott S. Kushner,
Certifying Officer, Division of Trade Adjustment Assistance.

[FR Doc. E5-3229 Filed 6-21-05; 8:45 am]

BILLING CODE 4510-30-P